ENVIRONMENTAL PROTECTION AGENCY

[EPA-HQ-OPP-2009-1017; FRL-9347-4]

Product Cancellation Order for Certain Pesticide Registrations

AGENCY: Environmental Protection Agency (EPA).

ACTION: Notice.

SUMMARY: This notice announces EPA's order for the cancellations, voluntarily requested by the registrants and accepted by the Agency, of the products listed in Tables 1 through 4 of Unit II., pursuant to section 6(f)(1) of the Federal Insecticide, Fungicide, and Rodenticide Act (FIFRA), as amended. This cancellation order follows a February 22, 2012, Federal Register Notice of Receipt of Requests from the registrants listed in Table 5 of Unit II. to voluntarily cancel these product registrations. In the February 22, 2012, notice, EPA indicated that it would issue an order implementing the cancellations, unless the Agency received substantive comments within the 30 day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective as provided in Unit VI.

FOR FURTHER INFORMATION CONTACT: Jolene Trujillo, Pesticide Re-evaluation Division (7508P), Office of Pesticide Programs, Environmental Protection Agency, 1200 Pennsylvania Ave. NW., Washington, DC 20460-0001; telephone number: (703) 347-0103; fax number: (703) 308-8005; email address: trujillo.jolene@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-1017. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m. Monday through Friday, excluding legal holidays. The Docket Facility telephone number is (703) 305-5805.

II. What action is the Agency taking?

This notice announces the cancellation, as requested by registrants, of 40 products registered under FIFRA section 3 or 24(c). These registrations are listed in sequence by registration number in Tables 1 through 4 of this unit.

Table 1—Product Registrations With Pending Requests for Cancellation
Registration No. | Product name | Chemical name
004787-00060 | Cheminova Fipronil Technical | Fipronil.
005905-00497 | 5 lb Dimethoate Systemic Insecticide | Dimethoate.
006836-00159 | LFQ-30 | Poly(oxy-1,2-ethanediyl (dimethylimino)-1,2-ethanediyl (dimethylimino)-1,2-ethanediyl dichloride).
009444-00170 | CB-38-2 For Insect Control | Piperonyl Butoxide, Pyrethrins.
010807-00101 | Repco-Tox Space Spray Insecticide | Resmethrin.
010807-00107 | Fog Kill Oil Base Insecticide | Resmethrin.
010807-00110 | Aqua-Kill Insecticide | Resmethrin.
028293-00160 | Unicorn House and Carpet Spray 11 | Tetramethrin, Phenothrin.
066222-00026 | Pramitol 2.5% Liquid Vegetation Killer | Prometon.
067760-00107 | Rhyme TC Termiticide/Insecticide | Fipronil.
082542-00019 | Technical Propiconazole | Propiconazole.
082542-00020 | Propiconazole 41.8% EC Fungicide | Propiconazole.
083851-00016 | Amitide Imazapyr Technical 98% | Imazapyr.
086068-00001 | Texcan Glyphosate Technical | Glyphosate.
086068-00002 | Texcan 62% Glyphosate MUP | Glyphosate-isopropylammonium.

Table 2—Registrations for Products Containing Fenarimol With Pending Requests for Cancellation
Registration No. | Product name | Chemical name
010163-00273 | Rubigan E.C. | Fenarimol.
010163-00274 | Rubigan A.S. Turf and Ornamental | Fenarimol.
010163-00275 | Rubigan A.S. | Fenarimol.
010163-00276 | Rubigan Technical | Fenarimol.
010163-00290 | Riverdale Patchwork | Fenarimol.
010163-00302 | Fenarimol Technical | Fenarimol.
OR030037 | Rubigan E.C. | Fenarimol.

Table 3—Registrations for Products Containing Chloroneb With Pending Requests for Cancellation
Registration No. | Product name | Chemical name
002217-00692 | Gordon's Professional Turf Products Teremec SP Turf Fungicide | Chloroneb.
009198-00182 | Andersons Golf Products Fungicide V | Chloroneb.
009198-00204 | Andersons Golf Products Fungicide IX | Chloroneb, Thiophanate-methyl.

Table 4—Registrations for Products Containing Pentachloronitrobenzene (or PCNB) With Pending Requests for Cancellation
Registration No. | Product name | Chemical name
005481-00279 | PCNB 75% Wettable Powder | Pentachloronitrobenzene.
005481-00419 | PCNB 75W Turf and Ornamental Soil Fungicide | Pentachloronitrobenzene.
005481-00438 | 80% PCNB | Pentachloronitrobenzene.
005481-00441 | PCNB 75 DG | Pentachloronitrobenzene.
005481-00453 | PCNB 75 WSP | Pentachloronitrobenzene.
005481-00457 | Turfpro WSP Turf & Ornamental Soil Fungicide | Pentachloronitrobenzene.
005481-08981 | Terraclor 75% Wettable Powder | Pentachloronitrobenzene.
005481-08983 | Terrachlor Technical | Pentachloronitrobenzene.
005481-08990 | Terrachlor 90% Dust Concentrate | Pentachloronitrobenzene.
005481-08996 | Terrazan PCNB Technical 99% | Pentachloronitrobenzene.
005481-08999 | Terrachlor Technical 96 | Pentachloronitrobenzene.
005481-09034 | Gustafson Terrachlor 80% Dust Concentrate | Pentachloronitrobenzene.
005481-09036 | RTU PCNB Seed Protectant | Pentachloronitrobenzene.
005481-09037 | Gustafson Apron-Terrachlor Dust Seed Treatment | Pentachloronitrobenzene Metalaxyl.
005481-09038 | Terra-Coat WP | Pentachloronitrobenzene.

Table 5 of this unit includes the names and addresses of record for all registrants of the products in Tables 1 through 4 of this unit, in sequence by EPA company number. This number corresponds to the first part of the EPA registration numbers of the products listed in Tables 1 through 4 of this unit.

Table 5—Registrants With Pending Requests for Cancellation
EPA Company No. | Company name and address
2217 | PBI/Gordon Corp., 1217 West 12th Street, P.O. Box 014090, Kansas City, MI 64101.
4787 | Cheminova A/S, Agent: Cheminova, Inc., 1600 Wilson Blvd., Suite 700, Arlington, VA 22209.
5481 | Amvac Chemical Corporation, 4695 MacArthur Court, Suite 1200, Newport Beach, CA 92660-1706.
5905 | Helena Chemical Co., Agent Helena Products Group, 7664 Smythe Farm Road, Memphis, TN 38120.
6836 | Lonza, Inc., 90 Boroline Road, Allendale, NJ 07401.
9198 | The Andersons Lawn Fertilizer Division, Inc., 521 Illinois Avenue, P.O. Box 119, Maumee, OH 43537.
9444 | Waterbury Companies, Inc., Agent: FMC Corporation, 1101 Penn. Avenue NW., Suite 325, Washington, DC 20004.
10163; OR030037 | Gowan Company, P.O. Box 5569, Yuma, AZ 85366.
10807 | Amrep, Inc., 990 Industrial Park Drive, Marietta, GA 30062.
28293 | Phaeton Corporation, Agent: Registrations By Design, Inc., P.O. Box 1019, Salem, VA 24153.
66222 | Makhteshim-Agan of North America, Inc., Agent: Pyxis Regulatory Consulting, Inc., 4110 136th Street NW., Gig Harbor, WA 98332.
67760 | Cheminova, Inc., Agent: Cheminova, Inc., 1600 Wilson Blvd., Suite 700, Arlington, VA 22209.
82542 | Source Dynamics, LLC, 10039 E. Troon North Drive, Scottsdale, AZ 85262.
83851 | Amitide, LLC, 21 Hubble, Irvine, CA 92618.
86068 | Texcan Investments & Marketing Company, Inc., Agent: Pyxis Regulatory Consulting, Inc., 4110 136th St. NW., Gig Harbor, WA 98332.

III. Summary of Public Comments Received and Agency Response to Comments

During the public comment period provided, EPA received no comments in response to the February 22, 2012, Federal Register notice announcing the Agency's receipt of the requests for voluntary cancellations of products listed in Tables 1 through 4 of Unit II.

IV. Cancellation Order

Pursuant to FIFRA section 6(f), EPA hereby approves the requested cancellations of the registrations identified in Tables 1 through 4 of Unit II. Accordingly, the Agency hereby orders that the product registrations identified in Tables 1 through 4 of Unit II. are cancelled. The effective date of the cancellations that are the subject of this notice can be found in Unit VI. Any distribution, sale, or use of existing stocks of the products identified in Tables 1 through 4 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register issue of February 22, 2012 (77 FR 10516) (FRL-9336-4). The comment period closed on March 23, 2012.

VI. Effective Dates of Cancellation and Provisions for Disposition of Existing Stocks

Existing stocks are those stocks of registered pesticide products which are currently in the United States and which were packaged, labeled, and released for shipment prior to the effective date of the cancellation action. The existing stocks provisions for the products subject to this order are as follows:

A. Registrations Listed in Table 1 of Unit II

The effective date of cancellation of these products is May 2, 2012. The registrants may continue to sell and distribute existing stocks of products listed in Table 1 of Unit II. until May 2, 2013, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the cancelled products.

B. Registrations Listed in Table 2 of Unit II

The effective date of cancellation of these products is July 31, 2013. The registrants will be allowed to sell and distribute existing stocks of products containing fenarimol until July 31, 2013. Thereafter, registrants will be prohibited from selling or distributing these pesticide products, except for export consistent with FIFRA section 17 or for proper disposal.

Persons other than the registrant will be allowed to sell and distribute existing stocks through July 31, 2015. After this date, remaining existing stocks of products containing fenarimol labeled for all uses, already in the hands of users may be used until exhausted, provided that such use complies with the EPA-approved label and labeling of the product.

C. Registrations Listed in Table 3 of Unit II Except No. 002217-00692

The effective date of cancellation of these products is May 2, 2012. The registrant will be allowed to sell and distribute existing stocks until December 31, 2013. Thereafter, registrants will be prohibited from selling or distributing these pesticide products, except for export consistent with FIFRA section 17 or for proper disposal.

Persons other than registrants will generally be allowed to sell, distribute, or use existing stocks until such stocks are exhausted, provided that such sale, distribution, or use is consistent with the terms of the previously approved labeling on, or that accompanied, the cancelled products.

D. Registration No. 002217-00692 Listed in Table 3 of Unit II

The effective date of cancellation of this product is December 31, 2013. The registrant may continue to sell or distribute existing stocks of chloroneb for 1 year from the date of the cancellation. Thereafter, registrants will be prohibited from selling or distributing this pesticide product, except for export consistent with FIFRA section 17 or for proper disposal. Persons other than registrants will generally be allowed to sell, distribute, or use existing stocks until such stocks are exhausted, provided that such sale, distribution, or use is consistent with the terms of the previously approved labeling on, or that accompanied, the cancelled products.

E. Registrations Listed in Table 4 of Unit II

The registrant is prohibited from selling or distributing the PCNB products listed in Table 4, except for export in accordance with FIFRA section 17 or for proper disposal, effective upon publication of this Cancellation Order, that is, as of May 2, 2012. Persons other than the registrant also are prohibited from selling or distributing existing stocks of products listed in Table 4, except for export in accordance with FIFRA section 17 or for proper disposal, effective upon publication of this Cancellation Order.

List of Subjects

Environmental protection, Pesticides and pests.

Dated: April 25, 2012.
Richard P. Keigwin, Jr.,
Director, Pesticide Re-evaluation Division, Office of Pesticide Programs.

[FR Doc. 2012-10436 Filed 5-1-12; 8:45 am]

BILLING CODE 6560-50-P